DEPARTMENT OF DEFENSE

Office of the Secretary

[Docket ID: DoD-2020-OS-0067]

Submission for OMB Review; Comment Request

AGENCY: Office of the Under Secretary of Defense for Personnel and Readiness, Department of Defense (DoD)

ACTION: 30-Day information collection notice.

SUMMARY: The DoD has submitted to OMB for clearance the following proposal for collection of information under the provisions of the Paperwork Reduction Act.

DATES: Consideration will be given to all comments received by December 28, 2020.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela James, 571-372-7574, or

whs.mc-alex.esd.mbx.dd-dod-information-collections@mail.mil.

SUPPLEMENTARY INFORMATION: Title; Associated Form; and OMB Number: Postsecondary Education Complaint Intake System; DD-2961; OMB Control Number 0704-0501.

Type of Request: Revision of a currently approved collection.

Number of Respondents: 917.

Responses per Respondent: 1.

Annual Responses: 917.

Average Burden per Response: 15 minutes.

Annual Burden Hours: 229.25 hours.

Needs and Uses: The Postsecondary Education Complaint information collection is necessary to meet the requirements of the E.O. and to obtain, document, and respond to complaints, questions, and other issues concerning educational programs and services provided to military students, and their adult Family members. It allows DoD to monitor and track the types of complaint issues that are submitted, the complaint content, the educational institutions the complaints have been filed against, the type of education benefits being used, and the branch of the military Service. The information collected via the DoD Intake form is used to assist in further developing and shaping of relevant mitigating and preventative measures concerning abusive, deceptive, and fraudulent practices against Service members and Spouses who are pursuing higher education utilizing TA and MyCAA.

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela James.

Requests for copies of the information collection proposal should be sent to Ms. James at whs.mc-alex.esd.mbx.dd-dod-information-collections@mail.mil.

Dated: November 23, 2020.
Kayyonne T. Marston,
Alternate OSD Federal Register, Liaison Officer, Department of Defense.

[FR Doc. 2020-26206 Filed 11-25-20; 8:45 am]

BILLING CODE 5001-06-P